DEPARTMENT OF LABOR

Employment and Training Administration

Comment Request for Information Collection on the ETA 9048, Worker Profiling and Reemployment Services Activity, and the ETA 9049, Worker Profiling and Reemployment Services Outcomes, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data on the ETA 9048, Worker Profiling and Reemployment Services Activity, and the ETA 9049, Worker Profiling and Reemployment Services Outcomes, which expires March 31, 2013.

DATES: Written comments must be submitted to the office listed in the addresses section below on or before January 28, 2013.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

The Worker Profiling and Reemployment Services (WPRS) program allows for the targeting of reemployment services to those most in need of services. The ETA 9048 and ETA 9049 are the only means of tracking the activities in the WPRS program. The ETA 9048 report describes flows of claimants at various points in the WPRS system from initial profiling through the completion of specific reemployment services. The ETA 9049 describes the reemployment experience of profiled claimants who were referred to services by examining the state's existing wage record files to see in which quarter the individuals who received reemployment services became employed, what wages they earned, and whether they changed industries.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Worker Profiling and Reemployment Services Activity and Outcomes.

OMB Number: 1205-0353.

Affected Public: State Workforce Agencies.

Form(s): ETA 9048, ETA9049.

Total Annual Respondents: 53.

Annual Frequency: Quarterly.

Total Annual Responses: 424.

Average Time per Response: 0.25 Hours.

Estimated Total Annual Burden Hours: 106 Hours.

Total Annual Burden Cost for Respondents: There is no burden cost for respondents.

Signed in Washington, DC, this 23rd day of October, 2012.
Jane Oates,
Assistant Secretary for Employment and Training, Labor.

[FR Doc. 2012-28737 Filed 11-26-12; 8:45 am]

BILLING CODE 4510-FW-P